BUREAU OF CONSUMER FINANCIAL PROTECTION

12 CFR Part 1012

[Docket No. CFPB-2011-0025]

RIN 3170-AA06

Interstate Land Sales Registration Program, Special Rules of Practice; Correction

AGENCY: Bureau of Consumer Financial Protection.

ACTION: Correcting amendments.

SUMMARY: The Bureau of Consumer Financial Protection published an interim final rule on December 21, 2011 (76 FR 79486), republishing implementing regulations under the Interstate Land Sales Full Disclosure Act (ILSA). The interim final rule contained a typographical error, which this document corrects.

DATES: This correcting amendment is effective on May 3, 2012.

FOR FURTHER INFORMATION CONTACT: Whitney Patross, Office of Regulations, at (202) 435-7700.

SUPPLEMENTARY INFORMATION: The Bureau of Consumer Financial Protection (Bureau) published an interim final rule republishing and making technical and conforming amendments to regulations of the Department of Housing and Urban Development (HUD) in connection with the transfer of rulemaking authority for ILSA from HUD to the Bureau. The interim final rule contained a typographical error, which this document corrects. The heading of Part 1012—Special Rules of Practice is incorrectly labeled as “Regulation J” and should be labeled “Regulation L.”

List of Subjects in 12 CFR Part 1012

Advertising disclaimers, Adjudicatory proceedings, Certification of substantially equivalent state law, Filing assistance, Purchasers' revocation rights, Land registration, Reporting requirements, Unlawful sales practices.

Accordingly, 12 CFR Part 1012 is amended by making the following correcting amendments:

PART 1012—SPECIAL RULES OF PRACTICE (REGULATION L)

1. The authority citation for part 1012 continues to read as follows:

Authority: 12 U.S.C. 5512, 5581; 15 U.S.C. 1718.

2. The heading of part 1012 is revised to read as set forth above.

Dated: April 25, 2012.
Richard Cordray,
Director, Bureau of Consumer Financial Protection.

[FR Doc. 2012-10602 Filed 5-2-12; 8:45 am]

BILLING CODE 4810-AM-P